PERSONNEL MANAGEMENT OFFICE

Proposed Collection; Equal Employment Opportunity Commission (EEOC) Form, Demographic Information on Applicants, OMB 3046-0046; Correction

AGENCY: U.S. Office of Personnel Management.

ACTION: Notice; correction.

SUMMARY: The published document in the Federal Register of August 2, 2010, concerning Proposed collection. The document contained incorrect dates.

DATES: Effective on September 1, 2010.

FOR FURTHER INFORMATION CONTACT: U.S. Office of Personnel Management, Employment Services, USAJOBS, 1900 E Street, NW., Washington, DC 20415, Attention: Patricia Stevens or send electronic mail to patricia.stevens@opm.gov.

Correction

In the Federal Register of Monday, August 2, 2010, at 75 FR 45173, in the third column, correct the DATES section to read:

DATES: Effective on December 12, 2010.

U.S. Office of Personnel Management.
Angela Bailey,
Deputy Associate Director for Recruitment and Diversity.

[FR Doc. 2010-21799 Filed 8-31-10; 8:45 am]

BILLING CODE 6325-39-P